DEPARTMENT OF TRANSPORTATION

Federal Aviation Administration

14 CFR Part 39

[Docket No. FAA-2024-0996; Project Identifier AD-2023-00365-Q]

RIN 2120-AA64

Airworthiness Directives; Various Airplanes and Helicopters

AGENCY: Federal Aviation Administration (FAA), DOT.

ACTION: Notice of proposed rulemaking (NPRM).

SUMMARY: The FAA proposes to supersede Airworthiness Directive (AD) 2021-07-13, which applies to certain Pacific Scientific Company rotary buckle assemblies (buckles). AD 2021-07-13 requires inspecting each buckle including its buckle handle vane, and depending on the results, removing the buckle from service and installing an airworthy buckle. AD 2021-07-13 also prohibits installing affected buckles. Since the FAA issued AD 2021-07-13, the manufacturer published an updated service bulletin, which revises the applicability based on date of manufacture of the affected buckles. This proposed AD would retain certain requirements of AD 2021-07-13. This proposed AD would also reduce the applicability to plastic buckles manufactured on or before May 31, 2007, or any buckle assembly whose date of manufacture cannot be determined. Additionally, this proposed AD would require performing corrective actions by complying with certain portions of the updated service bulletin. The FAA is proposing this AD to address the unsafe condition on these products.

DATES: The FAA must receive comments on this proposed AD by May 24, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2024-0996; or in person at Docket Operations between 9 a.m. and 5 p.m., Monday through Friday, except Federal holidays. The AD docket contains this NPRM, any comments received, and other information. The street address for Docket Operations is listed above.

Material Incorporated by Reference:

• For service information identified in this NPRM, contact Parker Meggitt Services, 1785 Voyager Ave., Simi Valley, CA 93063; phone: (877) 666-0712; email: TechSupport@meggitt.com.

• You may view this service information at the FAA, Office of the Regional Counsel, Southwest Region, 10101 Hillwood Pkwy., Room 6N-321, Fort Worth, TX 76177. For information on the availability of this material at the FAA, call (817) 222-5110.

Other Related Service Information: For other service information identified in this NPRM, contact Parker Meggitt Services, at the Parker Meggitt Services contact information under Material Incorporated by Reference above. You may also view this service information at the FAA contact information under Material Incorporated by Reference above.

FOR FURTHER INFORMATION CONTACT: Hal Jensen, Aviation Safety Engineer, FAA; 3960 Paramount Boulevard, Lakewood, CA 90712; phone (303) 342-1080; email hal.jensen@faa.gov.

SUPPLEMENTARY INFORMATION:

Comments Invited

The FAA invites you to send any written relevant data, views, or arguments about this proposal. Send your comments to an address listed under ADDRESSES. Include “Docket No. FAA-2024-0996; Project Identifier AD-2023-00365-Q” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Hal Jensen, Aviation Safety Engineer, FAA; 3960 Paramount Boulevard, Lakewood, CA 90712; phone (303) 342-1080; email hal.jensen@faa.gov. Any commentary that the FAA receives which is not specifically designated as CBI will be placed in the public docket for this rulemaking.

Background

The FAA issued AD 2021-07-13, Amendment 39-21490 (86 FR 17703, April 6, 2021) (AD 2021-07-13), for Pacific Scientific Company buckles part numbers 1111430 and 1111475, all dash numbers, installed on but not limited to Bombardier Inc., Learjet Inc., Mitsubishi Heavy Industries, Ltd., Textron Aviation, Inc. (type certificate (TC) previously held by Cessna Aircraft Company), and Viking Air Limited (TC previously held by de Havilland, Inc.) model airplanes and Airbus Helicopters (TC previously held by Eurocopter France) model helicopters. AD 2021-07-13 was prompted by European Union Aviation Safety Agency (EASA) AD 2007-0256, dated September 19, 2007 (EASA AD 2007-0256), issued by EASA, which is the Technical Agent for the Member States of the European Union, to correct an unsafe condition for certain Pacific Scientific Company Seat Restraint System Plastic Rotary Buckle Handles. According to EASA, Pacific Scientific Company reported several instances of cracked handles on certain buckles with a date of manufacture from November 2004 through May 2007. EASA later cancelled EASA AD 2007-0256 and adopted FAA AD 2021-07-13.

Accordingly, AD 2021-07-13 requires inspecting each buckle including its buckle handle vane, and depending on the results, removing the buckle from service and installing an airworthy buckle. AD 2021-07-13 also prohibits installing the affected buckles on any airplane or helicopter. The FAA issued AD 2021-07-13 to prevent a strap from not releasing as intended when the buckle is rotated.

Actions Since AD 2021-07-13 Was Issued

Since the FAA issued AD 2021-07-13, the manufacturer determined that the cracking on the buckle handle was caused by a material process issue and stated that the issue was resolved in 2007. Accordingly, the manufacturer published revised service information to revise the applicability by date of manufacture and clarify procedures.

Consequently, this proposed AD would revise the applicability to plastic buckles with a date of manufacture on or before May 31, 2007, or buckles whose date of manufacture cannot be determined, except not those buckles repaired with the installation of an airworthy buckle handle after May 31, 2007, and marked with a BLUE logo on the center button. This proposed AD would also clarify that the unsafe condition could result in occupants not being able to release the buckle in certain emergency landing conditions. Furthermore, this proposed AD would also require using the revised service information to accomplish its requirements. Lastly, the FAA has determined that adding a special flight permit limitation in this proposed AD is necessary.

Additionally, this NPRM would update the contact information to obtain service information, and move and update the contents of Note 1 in AD 2021-07-13 to the preamble of this NPRM.

FAA's Determination

The FAA is issuing this NPRM after determining that the unsafe condition described previously is likely to exist or develop on other airplanes and helicopters with a restraint system with a certain buckle installed as part of their type design.

Related Service Information Under 1 CFR Part 51

The FAA reviewed Parker Meggitt Service Bulletin SB 25-1111432, Revision 002, dated September 12, 2023 (SB 25-1111432 Rev 002), which specifies instructions for inspecting certain buckles for a crack, and measuring each buckle handle vane for correct thickness. SB 25-1111432 Rev 002 also specifies instructions for corrective actions, including but not limited to, removing and returning the buckle assembly or restraint assembly to Parker Meggitt for overhaul or replacement; and removing the buckle assembly or restraint assembly and replacing them with spare, new, or repaired assemblies. An applicable buckle may be included as a component of a different part-numbered restraint system assembly. Table 1 of SB 25-1111432 Rev 002 identifies restraint system P/Ns that may be affected.

This service information is reasonably available because the interested parties have access to it through their normal course of business or by the means identified in ADDRESSES.

Other Related Service Information

The FAA also reviewed Meggitt Service Information Letter SIL Restraint-25-002-2023, dated January 24, 2023, which contains additional information specifying how to locate the date of manufacture on each buckle.

Proposed AD Requirements in This NPRM

This proposed AD would retain certain requirements of AD 2021-07-13. This proposed AD would also reduce the applicability paragraph to apply to plastic buckle assemblies with a certain date of manufacture, or with a date of manufacture not known. This proposed AD would require accomplishing the actions specified in the service information already described, except as discussed under “Differences Between this Proposed AD and the Service Information.”

Differences Between This Proposed AD and the Service Information

Where the service information specifies sending affected parts to the manufacturer, this proposed AD would not. The service information does not specify a compliance time to inspect for a crack or measure for thickness, whereas this proposed AD would require inspecting the buckle handle for a crack within 6 months and measuring the buckle handle vane thickness within 12 months.

Costs of Compliance

The FAA estimates that this AD, if adopted as proposed, would affect up to 1,435 restraint systems installed on aircraft of U.S. registry. Labor rates are estimated at $85 per work-hour. Based on these numbers, the FAA estimates the following costs to comply with this proposed AD.

Inspecting each buckle handle for a crack and measuring thickness would take a nominal amount of time.

The FAA estimates the following costs to do any necessary replacements that would be required based on the results of the inspection. The FAA has no way of determining the number of aircraft that might need these replacements.

Replacing each buckle would take about 0.5 work-hour and parts would cost about $636 for an estimated cost of $679 per buckle replacement.

Replacing each restraint system would take about 0.5 work-hour and parts would cost about $1,031 for an estimated cost of $1,074 per restraint system replacement.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-07-13, Amendment 39-21490 (86 FR 17703, April 6, 2021); and

b. Adding the following new airworthiness directive:

Various Airplanes and Helicopters: Docket No. FAA-2024-0996; Project Identifier AD-2023-00365-Q.

(a) Comments Due Date

The FAA must receive comments on this airworthiness directive (AD) action by May 24, 2024.

(b) Affected ADs

This AD replaces AD 2021-07-13, Amendment 39-21490 (86 FR 17703, April 6, 2021) (AD 2021-07-13).

(c) Applicability

(1) This AD applies to all airplanes and helicopters, certificated in any category, with a restraint system with a Pacific Scientific Company plastic rotary buckle assembly (buckle) part number (P/N) 1111430 or P/N 1111475 (all dash numbers) installed having a date of manufacture on or before May 31, 2007, or an unknown date of manufacture, except not those buckles repaired with the installation of an airworthy buckle handle after May 31, 2007, and marked with a BLUE logo on the center button.

Note 1 to paragraph (c)(1): Information about the location of the date of manufacture can be found in Meggitt Service Information Letter SIL Restraint-25-002-2023, dated January 24, 2023.

(2) The buckles identified in paragraph (c)(1) of this AD may be installed on, but not limited to, The Boeing Company, Bombardier Inc., Learjet Inc., Mitsubishi Heavy Industries, Ltd., Textron Aviation, Inc. (type certificate (TC) previously held by Cessna Aircraft Company), and Viking Air Limited (TC previously held by de Havilland, Inc.) model airplanes and Airbus Helicopters (TC previously held by Eurocopter France) model helicopters, certificated in any category.

(d) Subject

Joint Aircraft System Component (JASC) Code: 2500, Cabin Equipment/Furnishings.

(e) Unsafe Condition

This AD was prompted by reports of cracked buckle handles and updated manufacturer service information. The FAA is issuing this AD to inspect for cracks and thickness of the buckle handle. The unsafe condition, if not addressed, could prevent a strap from releasing when the buckle is rotated, which could result in occupants not being able to release the buckle in certain emergency landing conditions.

(f) Compliance

Comply with this AD within the compliance times specified, unless already done.

(g) Required Actions

(1) Within 6 months after the effective date of this AD, inspect the buckle handle for a crack. If there is any crack, before further flight, remove the buckle from service and replace it with an airworthy buckle, or remove the restraint system from service and replace it with an airworthy restraint system.

(2) Within 12 months after the effective date of this AD, measure the thickness of the buckle handle vane as depicted in Figures 3 and 4 of Parker Meggitt Service Bulletin SB 25-1111432, Revision 002, dated September 12, 2023 (SB 25-1111432 Rev 002). If the buckle handle vane thickness is 0.125 inch or greater, before further flight, remove the buckle from service and replace it with an airworthy buckle, or remove the restraint system from service and replace it with an airworthy restraint system.

Note 2 to paragraph (g)(2): SB 25-1111432 Rev 002 refers to a buckle as both a buckle and buckle assembly, interchangeably.

(3) As of the effective date of this AD, do not install any buckle P/N 1111430 or P/N 1111475 (all dash numbers), with a buckle handle vane thickness of 0.125 inch or greater, or any restraint system with a buckle P/N 1111430 or 1111475 (all dash numbers), with a buckle handle vane thickness of 0.125 inch or greater installed, with the buckle having a date of manufacture on or before May 31, 2007, or if the date of manufacture cannot be determined, on any airplane or helicopter, unless the buckle has been repaired with the installation of an airworthy buckle handle after May 31, 2007, and is marked with a BLUE logo on the center button.

(h) Credit for Previous Actions

If you measured the thickness of the buckle handle vane as required by paragraph (g)(2) of this AD before the effective date of this AD using Pacific Scientific Service Bulletin SB 25-1111432, dated May 22, 2007, or using Meggitt Service Bulletin SB 25-1111432, Revision 001, dated May 20, 2021, you have met that requirement.

(i) Special Flight Permits

Special flight permits may be issued in accordance with 14 CFR 21.197 and 21.199 provided that there are no passengers onboard.

(j) Alternative Methods of Compliance (AMOCs)

(1) The Manager, West Certification Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to 9-ANM-LAACO-AMOC@faa.gov.

(2) Before using any approved AMOC, notify your appropriate principal inspector, or lacking a principal inspector, the manager of the local flight standards district office/certificate holding district office.

(3) AMOCs approved for AD 2021-07-13 are approved as AMOCs for the corresponding requirements of this AD.

(k) Related Information

(1) For more information about this AD, contact Hal Jensen, Aviation Safety Engineer, FAA; 3960 Paramount Boulevard, Lakewood, CA 90712; phone (303) 342-1080; email hal.jensen@faa.gov.

(2) Meggitt and Pacific Scientific service information, that are not incorporated by reference can be found in the contact information identified in paragraph (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on [DATE 35 DAYS AFTER PUBLICATION OF THE FINAL RULE].

(i) Parker Meggitt Service Bulletin SB 25-1111432, Revision 002, dated September 12, 2023.

(ii) [Reserved]

(4) For service information identified in this AD, contact Parker Meggitt Services, 1785 Voyager Ave., Simi Valley, CA 93063; phone: (877) 666-0712; email: TechSupport@meggitt.com.

(5) You may view this service information at the FAA, Office of the Regional Counsel, Southwest Region, 10101 Hillwood Pkwy., Room 6N-321, Fort Worth, TX 76177. For information on the availability of this material at the FAA, call (817) 222-5110.

(6) You may view this material at the National Archives and Records Administration (NARA). For information on the availability of this material at NARA, visit www.archives.gov/federal-register/cfr/ibr-locations or email: fr.inspection@nara.gov.

Issued on April 2, 2024.
Victor Wicklund,
Deputy Director, Compliance & Airworthiness Division, Aircraft Certification Service.

[FR Doc. 2024-07394 Filed 4-8-24; 8:45 am]

BILLING CODE 4910-13-P